SECURITIES AND EXCHANGE COMMISSION

[File No. 500-1]

Curatech Industries, Inc., Order of Suspension of Trading

October 28, 2011.

It appears to the Securities and Exchange Commission that there is a lack of current and accurate information concerning the securities of CuraTech Industries, Inc. (“CuraTech”) because of questions that have arisen regarding the accuracy of publicly disseminated information, concerning, among other things: (1) The company's assets; (2) the company's business operations, (3) the company's current financial condition; and/or (4) issuances of shares in company stock. CuraTech's common stock is presently quoted on OTC Link (formerly, “Pink Sheets”) operated by OTC Markets Group, Inc. under the symbol “CUTC.”

The Commission is of the opinion that the public interest and the protection of investors require a suspension of trading in the securities of the company listed above.

Therefore, it is ordered, pursuant to Section 12(k) of the Securities Exchange Act of 1934, that trading in the securities of the company listed above is suspended for the period from 9:30 a.m. E.D.T., October 28, 2011, through 11:59 p.m. E.S.T., on November 10, 2011.

By the Commission.
Elizabeth M. Murphy,
Secretary.

[FR Doc. 2011-28356 Filed 10-28-11; 11:15 am]

BILLING CODE 8011-01-P